DEPARTMENT OF TRANSPORTATION

[Docket No. DOT-OST-2004-16951]

Notice of Request for Approval of a New Information Collection: Exemptions for Air Taxi Operations

AGENCY: Office of the Secretary (OST), DOT.

ACTION: Notice and request for comments.

SUMMARY: In accordance with the Paperwork Reduction Act of 1995, Public Law 104-13, this notice announces the intention of the Department of Transportation (DOT), OST, to request that the Office of Management and Budget (OMB) approve the following collection: Exemptions for Air Taxi Operations, responsibility for which has been transferred from the Federal Aviation Administration (FAA) to OST. The collection involves a classification of air carriers known as air taxi operators and their filing of a one-page form that enables them to obtain economic authority from DOT. The information to be collected is necessary for DOT to determine whether an air taxi operation meets DOT's criteria for an economic authorization in accordance with DOT rules. We are required to publish this notice in the Federal Register by the Paperwork Reduction Act of 1995, Public Law 104-13.

DATES: Written comments should be submitted by April 30, 2012.

ADDRESSES: You may submit comments [identified by Docket No. DOT-OST-2004-16951] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Vanessa Balgobin, U.S. Department of Transportation, Office of the Secretary, 1200 New Jersey Avenue SE., Room W86-463, Washington, DC 20590. Phone: (202) 366-9721. Email: vanessa.balgobin@dot.gov.

SUPPLEMENTARY INFORMATION: OMB Control Number: 2105-XXXX.

Title: Exemptions for Air Taxi Operations.

Form Number: OST Form 4507.

Type of Review: New Information Collection.

Background: Part 298 of Title 14 of the Code of Federal Regulations, Exemptions for Air Taxi Registration, establishes a classification of air carriers known as air taxi operators that offer on-demand passenger service. The regulation exempts these small operators from certain provisions of the Federal statue to permit them to obtain economic authority by filing a one-page, front and back, OST Form 4507, Air Taxi Operator Registration, and Amendments under Part 298 of DOT's Regulations.

Currently, OST Form 4507 is electronically available to the public; however, the form cannot be filled out electronically. DOT is proposing to amend this form so that it can be filled out electronically and saved for future amendments. However, this new fillable form will still require original signatures and may not be filed electronically.

DOT expects to receive 200 new air taxi registrations and 2,200 amended air taxi registrations each year, resulting in 2,400 total respondents. Further, DOT expects filers of new registrations to take 1 hour to complete the form, while it should only take 30 minutes to prepare amendments to the form. Thus, the total annual burden is expected to be 1,300 hours.

Lastly, the information captured in OST Form 4507 is currently collected under OMB Control No. 2120-0633. The responsibility for this collection of information has been transferred from the FAA to OST; therefore, OST is requesting that OMB assign a new control number to this information collection.

Respondents: U.S. air taxi operators.

Number of Respondents: 2,400.

Frequency: On occasion.

Number of Responses: 2,400.

Total Annual Burden: 1,300 hours.

Public Comments Invited: You are asked to comment on any aspect of this information collection, including (a) whether the proposed collection of information is necessary for DOT's performance; (b) the accuracy of the estimated burden; (c) ways for DOT to enhance the quality, utility and clarity of the information collection; and (d) ways that the burden could be minimized without reducing the quality of the collected information. The agency will summarize and/or include your comments in the request for OMB's clearance of this information collection.

Authority: The Paperwork Reduction Act of 1995; 44 U.S.C. chapter 35, as amended; and 49 CFR 1.48.

Issued in Washington, DC, on February 21, 2012.
Lauralyn Remo,
Chief, Air Carrier Fitness Division, Office of Aviation Analysis, Office of the Secretary.

[FR Doc. 2012-4620 Filed 2-27-12; 8:45 am]

BILLING CODE 4910-9X-P